DEPARTMENT OF COMMERCE

National Oceanic and Atmospheric Administration

RIN 0648-XA793

New England Fishery Management Council (NEFMC); Public Meeting

AGENCY: National Marine Fisheries Service (NMFS), National Oceanic and Atmospheric Administration (NOAA), Commerce.

ACTION: Notice of a public meeting.

SUMMARY: The New England Fishery Management Council (Council) will hold a three-day meeting on November 15-17, 2011 to consider actions affecting New England fisheries in the exclusive economic zone (EEZ).

DATES: The meeting will be held on Tuesday, Wednesday and Thursday, November 15-17, starting at 9 a.m. on Tuesday, and at 8:30 a.m. on Wednesday and Thursday.

ADDRESSES: The meeting will be held at the Newport Marriott Hotel, 25 America's Cup Avenue, Newport, Rhode Island 02840; telephone: (401) 849-1000; fax: (401) 849-3422.

Council address: New England Fishery Management Council, 50 Water Street, Mill 2, Newburyport, MA 01950; telephone: (978) 465-0492.

FOR FURTHER INFORMATION CONTACT: Paul J. Howard, Executive Director, New England Fishery Management Council; telephone: (978) 465-0492.

SUPPLEMENTARY INFORMATION:

Tuesday, November 15, 2011

Following introductions and any announcements, brief reports will be presented by the NEFMC Chairman and Executive Director, NOAA Fisheries Regional Administrator (Northeast Region), Northeast Fisheries Science Center and Mid-Atlantic Fishery Management Council liaisons, NOAA General Counsel, representatives of the U.S. Coast Guard and the Atlantic States Marine Fisheries Commission, and staff from the Vessel Monitoring Systems Operations and Law Enforcement offices. A Coast Guard representative also will provide the Council with a report on the implementation of the Coast Guard Authorization Act. That discussion will be followed by a review of any experimental fishery permit applications that have been made available since the September Council meeting. The Council will then consider a request from the Mid-Atlantic Council to include an option to establish a river herring catch cap for public comment in the Draft EIS for Amendment 5 to the Atlantic Herring Fishery Management Plan (FMP), consistent with the options in the Mid-Atlantic Fishery Management Council's Draft Amendment 14 to the Squid/Mackerel/Butterfish FMP. An open period for public comments will follow at which any interested party may provide brief comments on issues relevant to Council business but not listed on the meeting agenda.

Following a lunch break, the Council will receive an update from the Northeast Regional Ocean Council concerning coastal and marine spatial planning. Council and NMFS leadership will review further actions under consideration or being implemented to respond to the Touchstone Report on the fisheries management process in New England. The day will conclude with a review of progress to date on Essential Fish Habitat (EFH) Omnibus 2, which is focusing on the development of management alternatives to minimize the adverse effects of fishing activities on EFH.

Wednesday, November 16, 2011

The day will begin with further discussion and approval of the Council's 2012 fisheries management priorities. This will be followed by a summary report on and recommendations for observer sea-day allocations for the upcoming year. Concerning Framework Adjustment 23 to the Sea Scallop FMP, the Council may have an opportunity to review the draft regulatory text for the action (if available), and deem whether they are consistent with the action and the NEFMC's intent. This item will be followed by an update about the transition to a new stock assessment process for the New England and Mid-Atlantic regions. The Council's Groundfish Committee will provide recommendations and the Council is expected to take final action on Framework Adjustment 47 to the Northeast Multispecies FMP. It also will consider recommendations for recreational accountability measures for Gulf of Maine haddock. Before meeting adjournment for the day, there will be an update on the development of Amendment 19 to Northeast Multispecies FMP, to address the small mesh fishery which includes stocks of red hake, silver hake, and offshore hake.

Thursday, November 17, 2011

The Council will consider approval of recommendations for goals and objectives for Amendment 6 to the Monkfish FMP, an action that may include catch shares management approaches for the monkfish fishery. The Council also will discuss a motion postponed from its last meeting requesting that NMFS calculate individual contribution factors (allocation shares or sector contribution) for three historical fishing periods and forward that information to permit holders. Members will also vote to set the spiny dogfish annual catch limit for 2012 at 44.868 million pounds, the annual catch target at 44.737 million pounds, the total allowable landings at 35.740 million pounds, and the commercial quota at 35.694 million pounds, and to set the trip limit at 4,000 pounds. These specifications already have been approved by the Mid-Atlantic Council. The Enforcement Committee will bring forward its recommendations for changes to gear stowage requirements, a letter supporting vessel and gear marking, and recommendations for hake incidental catch limits and skate identification at the dock. It also will discuss and may comment on the October 5, 2011 advanced notice of proposed rulemaking titled Changes to Vessel Replacement and Upgrade Provisions for Fishing Vessels Issued Limited Access Federal Fishery Permits. Finally, the Council will accommodate a NMFS scoping hearing about issues relevant to the management of sandbar, dusky, and blacknose shark, and on a new status determination for scalloped hammerhead based on recent stock assessments for these species.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: October 24, 2011.
Tracey L. Thompson,
Acting Director, Office of Sustainable Fisheries, National Marine Fisheries Service.

[FR Doc. 2011-27768 Filed 10-26-11; 8:45 am]

BILLING CODE 3510-22-P